SMALL BUSINESS ADMINISTRATION

National Advisory Council; Public Meeting

The U.S. Small Business Administration, National Advisory Council will be hosting a public meeting via conference call to discuss such matters that may be presented by members, staff of the U.S. Small Business Administration, or interested others. The conference call will take place on Thursday, July 28, 2005, at 12 p.m. eastern standard time. The call number is 1-866-740-1260 and enter access code 2057001.

Additionally, we will be using http://www.readtytalk.com to offer a live display of a PowerPoint presentation. The access code is the same: 2057001. Please log-in 10 minutes before the conference.

Anyone wishing to participate or make an oral presentation to the Board must contact Adrienne Abney-Cole, Administrative Assistant, National Advisory Council, no later than Thursday, July 18, 2005, via e-mail or fax. Adrienne Abney-Cole, Administrative Assistant, U.S. Small Business Administration, 409 3rd Street, SW., Washington, DC 20516, (202) 205-6742 phone, or (202) 481-0112 fax, or e-mail Andrienne.Abney-Cole@sba.gov.

Matthew K. Becker,
Committee Management Officer.

[FR Doc. 05-13408 Filed 7-7-05; 8:45 am]

BILLING CODE 8025-01-P